DEPARTMENT OF DEFENSE

Department of the Army, Corps of Engineers

Termination of Environmental Impact Statement for the Gray's Beach Restoration Project, Waikiki, Island of Oahu, Hawaii

AGENCY: U.S. Army Corps of Engineers, DoD.

ACTION: Notice of intent; withdrawal.

SUMMARY: The U.S. Army Corps of Engineers (Corps), Honolulu District, is issuing this notice to advise Federal, state, and local governmental agencies and the public that the Corps is withdrawing its Notice of Intent (NOI) to prepare a Draft Environmental Impact Statement (EIS) for the Gray's Beach Restoration Project located in Waikiki on the Island of Oahu, Hawaii (Corps File No. POH-2007-00192).

FOR FURTHER INFORMATION CONTACT: Susan Meyer, Senior Project Manager, Regulatory Office. Mailing address: U.S. Army Corps of Engineers, Honolulu District, CEPOH-RO (Attn: Ms. Susan Meyer), Building 230, Ft. Shafter, Hawaii 96858-5440. Email address: susan.a.meyer@usace.army.mil.

SUPPLEMENTARY INFORMATION: The Corps published an NOI in the Federal Register on November 17, 2008 (73 FR 67847) to prepare a Draft EIS pursuant to the National Environmental Policy Act for the proposed Gray's Beach Restoration Project. A public scoping meeting was held on December 17, 2008 to solicit public input on the scope of analysis; significant issues to be evaluated in the Draft EIS; cooperating agencies; direct, indirect and cumulative impacts resulting from the proposed action; and proposed alternatives. Since that time, the project proponent has withdrawn its Department of the Army permit application and is no longer actively pursuing the proposed project. Therefore, the Corps is withdrawing the NOI to prepare a Draft EIS.

Christopher W. Crary,
Lieutenant Colonel, U.S. Army, District Engineer.

[FR Doc. 2015-10618 Filed 5-5-15; 8:45 am]

BILLING CODE 3720-58-P